DEPARTMENT OF HEALTH AND HUMAN SERVICES

Centers for Disease Control and Prevention

Healthcare Infection Control Practices Advisory Committee (HICPAC); Correction

Notice is hereby given of a change in the meeting of the Healthcare Infection Control Practices Advisory Committee (HICPAC); November 15, 2018, 9 a.m. to 5 p.m., EST, and November 16, 2018, 9 a.m. to 12 p.m., EST which was published in the Federal Register on October 5, 2018 Volume 83, Number 194, page 50378.

The call-in number and passcode should read as follows: call-in number, 866-803-2146, passcode: 80256461.

FOR FURTHER INFORMATION CONTACT: Erin Stone, M.A., HICPAC, Division of Healthcare Quality Promotion, NCEZID, CDC, 1600 Clifton Road NE, Mailstop A-07, Atlanta, Georgia 30329-4027; Email: HICPAC@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-24463 Filed 11-7-18; 8:45 am]

BILLING CODE 4163-18-P